DEPARTMENT OF DEFENSE

Office of the Secretary

[Docket ID: DoD-2024-OS-0130]

Submission for OMB Review; Comment Request

AGENCY: Office of the Under Secretary of Defense for Acquisition and Sustainment (OUSD(A&S)), Department of Defense (DoD).

ACTION: 30-Day information collection notice.

SUMMARY: The DoD has submitted to the Office of Management and Budget (OMB) for clearance the following proposal for collection of information under the provisions of the Paperwork Reduction Act.

DATES: Consideration will be given to all comments received by May 8, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Defense Community Infrastructure Program Notice of Federal Opportunity; OMB Control Number 0704-0607.

Type of Request: Revision.

Number of Respondents: 150.

Responses per Respondent: 1.

Annual Responses: 150.

Average Burden per Response: 15 hours.

Annual Burden Hours: 2,250.

Needs and Uses: Section 2391(d) of Title 10, United States Code (10 U.S.C. 2391), authorizes the Secretary of Defense to, “make grants, conclude cooperative agreements, and supplement funds available under Federal programs administered by agencies other than the DoD, for projects owned by a State or local government, or a not-for-profit, member-owned utility service to address deficiencies in community infrastructure supportive of a military installation.” The Consolidated Appropriations Act for Fiscal Year 2021 (Pub. L. 116-260) provided $60 million to the Office of Local Defense Community Cooperation for the Defense Community Infrastructure Program (DCIP). This information collection supports the awarding of grants under DCIP via the initial grant proposal package prepared in accordance to a Federal Funding Opportunity Announcement posted on the Grants.gov website. The criteria established for the selection of community infrastructure projects reflects projects consisting of some combination of attributes that will enhance: (i) projects that will enhance military value; (ii) projects that contribute to the training of cadets enrolled in an independent Reserve Officer Training Corps program at a covered educational institution; (iii) project that will enhance military installation resilience; and/or, (iv) projects that will enhance military family quality of life (including whether the impact of the community infrastructure on alleviating installation commuter workforce issues and the benefit of schools or other local infrastructure located off of a military installation that will support members of the armed forces and their dependents residing in the community) at a military installation.

Affected Public: State, Local or Tribal Government; Not-for-profit Institutions.

Frequency: Annually.

Respondent's Obligation: Voluntary.

DoD Clearance Officer: Mr. Reginald Lucas.

Dated: April 3, 2025.
Stephanie J. Bost,
Alternate OSD Federal Register Liaison Officer, Department of Defense.

[FR Doc. 2025-06021 Filed 4-7-25; 8:45 am]

BILLING CODE 6001-FR-P